DEPARTMENT OF COMMERCE

National Oceanic and Atmospheric Administration

[XRIN: 0648-XA33]

Western Pacific Regional Fishery Management Council; Public Meeting

AGENCY: National Marine Fisheries Service (NMFS), National Oceanic and Atmospheric Administration (NOAA), Commerce.

ACTION: Notice of public meeting.

SUMMARY: The 95th meeting of the Western Pacific Regional Fishery Management Council's (Council) Scientific and Statistical Committee (SSC) meeting will be held between 9 a.m. and 5 p.m. on Tuesday, June 12, 2007, and between 8:30 am and 5 p.m. on Wednesday and Thursday June 13-14, 2007.

DATES: The SSC will convene Tuesday, June 12, 2007, through Thursday June 14, 2007(see SUPPLEMENTARY INFORMATION for the agenda).

ADDRESSES: The SSC meeting will be held at the Council Office Conference Room, 1164 Bishop St., Suite 1400, Honolulu, HI; telephone: (808) 522-8220.

FOR FURTHER INFORMATION CONTACT: Kitty M. Simonds, Executive Director; telephone: (808)-522-8220.

SUPPLEMENTARY INFORMATION:

Agenda

9 a.m. Tuesday, June 12, 2007

1. Introductions

2. Approval of Draft Agenda and Assignment of Rapporteurs

3. Approval of the Minutes of the 94th Meeting

4. Report from the NMFS Pacific Science Center Director

5. Insular Fisheries

A. Bottomfish and Seamount Groundfish

1. MHI Bottomfish (ACTION ITEM)

a. Seasonal Closures, TACs and Commercial Reporting

b. Recreational Permits and Reporting

c. Federal Recreational Bag Limits

2. Risk Analysis of Potential TACs

3. Updated Analysis of HDAR Survey of BF Registered Vessel Owners

4. Bottomfish education and outreach program

5. Advisory Panel Recommendations

6. Public Comment

7. Discussion and Recommendations

B. Precious Corals

1. Potential for Auau Limited Entry Program (ACTION ITEM)

2. Plan Team Recommendations

3. Public Comment

4. Discussion and Recommendations

8:30 a.m. Wednesday, June 13, 2007

6. Pelagic Fisheries

A. Longline Management

1. Longline Tuna TAC Framework (ACTION ITEM)

2. Guam Longline Area Closure (ACTION ITEM)

3. Review of Report on Transferred Effects

B. American Samoa and Hawaii Longline Quarterly Reports

C. International Fisheries

1. ISC Bycatch Working Group

2. IATTC Stock Assessment Working Group

3. WCPFC- SC3 Agenda

4. SPC/PNG Tuna Tagging

5. FAO Report

D. Plan Team Recommendations

E. Advisory Panel Recommendations

F. Public Comment

G. Discussion and Recommendations

8:30 a.m. Thursday, June 14, 2007

7. Ecosystem And Habitat

A. Use of Traditional Knowledge in Marine Resource Management

B. Report on American Samoa Coral Reef Fisheries

C. Report on Hawaii Ulua Tagging Data Analysis

D. Report on MSRA Annual Catch Limit Guidance

E. Advisory Panel Recommendations

F. REAC Reports

G. Public Comment

H. Discussion and Recommendations

8. Other Business

A. 96th SSC meeting

9. Summary of SSC Recommendations to the Council

Special Accommodations

These meetings are physically accessible to people with disabilities. Requests for sign language interpretation or other auxiliary aids should be directed to Kitty M. Simonds, (808)522-8220 (voice) or (808)522-8226 (fax), at least 5 days prior to the meeting date.

Authority: 16 U.S.C. 1801 et seq.

Dated: May 14, 2007.
Tracey L. Thompson,
Acting Director, Office of Sustainable Fisheries, National Marine Fisheries Service.

[FR Doc. E7-9487 Filed 5-16-07; 8:45 am]

BILLING CODE 3510-22-S